DEPARTMENT OF ENERGY

Federal Energy Regulatory Commission

[Docket No. CX25-2-000]

Adopting Categorical Exclusions Under the National Environmental Policy Act; Notice Of Adoption Of Categorical Exclusions Under The National Environmental Policy Act

On July 3, 2025, the Commission issued an order in Docket No. CX25-2-000, pursuant to section 109 of the National Environmental Policy Act (NEPA), 42 U.S.C. 4336c, adopting two categorical exclusions from the US Bureau of Reclamation regarding actions at hydropower projects. Adopting Categorical Exclusions Under the National Environmental Policy Act, 192 FERC ¶ 61,019 (2025).

The adoption becomes effective 31 days after the issuance date of the Commission's order, i.e., on August 4, 2025.

The Commission provides all interested persons an opportunity to view and/or print the contents of its order via the internet through the Commission's Home Page (http://www.ferc.gov) using the “eLibrary” link. Enter the docket number excluding the last three digits in the docket number field to access the document. From FERC's Home Page on the internet, this information is available on eLibrary. The full text of this document is available on eLibrary in PDF and Microsoft Word format for viewing, printing, and/or downloading. To access this document in eLibrary, type the docket number excluding the last three digits of this document in the docket number field. User assistance is available for eLibrary and the FERC's website during normal business hours from FERC Online Support at 202-502-6652 (toll free at 1-866-208-3676) or email at ferconlinesupport@ferc.gov, or the Public Reference Room at (202) 502-8371, TTY (202) 502-8659. Email the Public Reference Room at public.referenceroom@ferc.gov.

The Commission's Office of Public Participation (OPP) supports meaningful public engagement and participation in Commission proceedings. OPP can help members of the public, including landowners, community organizations, Tribal members and others, access publicly available information and navigate Commission processes.

For public inquiries and assistance with making filings such as interventions, comments, or requests for rehearing, the public is encouraged to contact OPP at (202) 502-6595 or OPP@ferc.gov.

Dated: July 3, 2025.
Debbie-Anne A. Reese,
Secretary.

[FR Doc. 2025-12754 Filed 7-8-25; 8:45 am]

BILLING CODE 6717-01-P